DEPARTMENT OF THE INTERIOR

Bureau of Land Management

[CA-660-1430-ER-CACA-17905]

Notice of Availability of the Draft Environmental Impact Statement/Environmental Impact Report (EIS/EIR) for the Southern California Edison Devers-Palo Verde No. 2 Transmission Line Project, California

AGENCY: Bureau of Land Management, Interior.

ACTION: Notice of Availability.

SUMMARY: In accordance with the National Environmental Policy Act (NEPA) of 1969, as amended (Pub. L. 91-190, 42 U.S.C. 4321-4347), and 40 CFR parts 1500-1508, the Bureau of Land Management (BLM), together with the California Public Utilities Commission (CPUC), hereby gives notice that the Draft Environmental Impact Statement/Environmental Impact Report (EIS/EIR) for the Southern California Edison Company (SCE) Devers-Palo Verde No. 2 Transmission Line Project is available for public review and comment. The BLM is the lead Federal agency for the preparation of this EIS in compliance with the requirements of NEPA. The CPUC is the lead State of California agency for the preparation of this EIR in compliance with the requirements of the California Environmental Quality Act (CEQA). This notice serves as an invitation for the public and other cooperating agencies to provide comments on the scope and content of the Draft EIS/EIR.

DATES: To assure that they will be considered, BLM must receive comments on the Draft EIS/EIR within 60 days following the date of publication of a Notice of Availability of this document, in the Federal Register, by the Environmental Protection Agency (EPA). The EPA published its Notice of Availability on May 19, 2006, at 71 FR 29148, with a stated end of the comment period to be July 5, 2006. The BLM is extending this comment period until the close of business on August 11, 2006.

ADDRESSES: If you wish to comment, you may submit your comments by any of several methods. You may mail comments to: Gail Acheson, Field Manager; Bureau of Land Management, Palm Springs-South Coast Field Office, P.O. Box 581260, North Palm Springs, CA 92258. You may also comment via the Internet to gchill@ca.blm.gov. Please include in the subject line: “Draft EIS/EIR, DPV2 Transmission Line Project” and your name and return address in your Internet message. If you do not receive a confirmation that we have received your Internet message, contact Greg Hill at (760) 251-4840. You may also hand-deliver comments to: Bureau of Land Management, Palm Springs-South Coast Field Office, 690 W. Garnet Avenue, North Palm Springs, CA 92258. Oral comments were accepted at the three public meetings held in Tonopah, Arizona; Beaumont, California; and Palm Desert, California, in June 2006. Notices published in the local media were provided at least 15 days prior to the scheduled public meetings. Individual respondents may request confidentiality. If you wish to withhold your name and/or street address from public review or disclosure under the Freedom of Information Act, you must state this prominently at the beginning of your comment. Such requests will be honored to the extent allowed by law. We will make all submissions from organizations or businesses, and from individuals identifying themselves as representatives or officials of organizations or businesses, available for public inspection in their entirety.

FOR FURTHER INFORMATION CONTACT: Greg Hill at (760) 251-4840 or e-mail: gchill@ca.blm.gov. A copy of the Draft Environmental Impact Statement/Environmental Impact Report (EIS/EIR) for the Southern California Edison Proposed Devers-Palo Verde No. 2 Transmission Line Project is available for review via the Internet at http://www.blm.gov/ca/palmsprings. Electronic (on CD-ROM) or paper copies may also be obtained by contacting Greg Hill at the aforementioned addresses and phone number.

SUPPLEMENTARY INFORMATION: Southern California Edison (SCE) is proposing to construct a new 230-mile long, 500-kilovolt (kV) electrical transmission line between SCE's Devers Substation located near Palm Springs, California, and the Harquahala Generating Station switchyard, located near the Palo Verde Nuclear Generating Station west of Phoenix, Arizona. For the most part, this portion of the project would parallel SCE's existing Devers-Palo Verde No. 1 500 kV transmission line. In addition, SCE is proposing to upgrade 48.2 miles of existing 230 kV transmission lines between the Devers Substation west to the San Bernardino and Vista Substations, located in the San Bernardino, California, vicinity. Together, the proposed 500 kV line and the 230 kV transmission facility upgrades are known as DPV2. Construction of DPV2 would add 1,200 megawatts (MW) of transmission import capacity from the southwestern United States to California, which would reduce energy costs throughout California and enhance the reliability of California's energy supply through increased transmission infrastructure.

The BLM identified a list of issues that are addressed in this analysis, including the impacts of the proposed project on visual resources, agricultural lands, air quality, plant and animal species including special status species, cultural resources, and watersheds. Other issues identified by the BLM are impacts to the public in the form of noise, traffic, accidental release of hazardous materials, and impacts to urban, residential, and recreational areas. The CPUC and BLM, pursuant to CEQA and NEPA, released the EIS/EIR on May 4, 2006. Joint CPUC and BLM public workshops were held in Tonopah, Arizona; Beaumont, California; and Palm Desert, California, on June 6, 7, and 8, 2006, respectively. Meeting notices were published in Arizona and California newspapers in early May 2006 and were mailed to an extensive public interest list.

Gail Acheson,
Field Manager.

[FR Doc. E6-12112 Filed 7-27-06; 8:45 am]

BILLING CODE 4310-40-P